DEPARTMENT OF ENERGY

Agency Information Collection Under Review by the Office of Management and Budget (OMB)

AGENCY: Department of Energy.

ACTION: Submission for OMB review; comment request.

SUMMARY: The Department of Energy (DOE) has submitted an information collection package to OMB for renewal under the Paperwork Reduction Act of 1995. The package requests a 3-year extension of its reporting and record keeping requirements for the Make-or-Buy Plans, OMB Control Number 1910-5102. This information is required by the Department to ensure whether DOE's management and operating contractors are subcontracting in the most cost-effective and efficient manner.

DATES: Comments regarding the information collection package should be submitted to the OMB Desk Officer no later than February 24, 2003. If you anticipate submitting comments, but find it difficult to do so within the period of time allowed by this notice, you should advise the OMB Desk Officer of your intention to do so as soon as possible. The Desk Officer may be telephoned at (202) 395-3087.

ADDRESSES: Address comments to DOE Desk Officer, Office of Information and Regulatory Affairs (OIRA), Office of Management and Budget, Docket Library, Room 10102, 725 17th Street, NW., Washington, DC 20503. Comments should also be addressed to Susan L. Frey, Director, Records Management Division, Office of Business and Information Management, Office of the Chief Information Officer, IM-11/Germantown Bldg., U.S. Department of Energy, Washington, DC 20585-1290, or E-mail susan.frey@hq.doe.gov. (Also notify Irma Brown, Office of Procurement and Assistance Policy (ME-62), Washington, DC 20585 or E-mail irma.brown@hq.doe.gov).

SUPPLEMENTARY INFORMATION: The package contains (1) Title: Make-or-Buy Plans; (2) Current OMB Control Number: 1910-5102; (3) Type of Respondents: DOE management and operating contractors and offsite contractors; (4) Estimated Number of Responses: 36; (5) Estimated Total Burden Hours: 7,800, including record keeping hours, required to provide the information; (6) Purpose: This information is required by the Department to ensure whether DOE's management and operating contractors are subcontracting in the most cost-effective and efficient manner and to exercise management and oversight of DOE contractors; (7) Number of Collections: The package contains 1 information and/or record keeping requirement.

Statutory Authority: Sec. 3506(c)(2)(A) of the Paperwork Reduction Act of 1995 (Pub. L. 104-13).

Issued in Washington, DC on January 17, 2003.
Susan L. Frey,
Director, Records Management Division, Office of Records and Business Management, Office of the Chief Information Officer.

[FR Doc. 03-1640 Filed 1-23-03; 8:45 am]

BILLING CODE 6450-01-P